DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• February 21, 2012 (Conference Call)

• February 23, 2012 (Wilmington, DE)

• March 26, 2012 (Conference Call)

• March 29, 2012 (Wilmington, DE)

• April 23, 2012 (Conference Call)

• April 26, 2012 (Wilmington, DE)

• May 17, 2012 (Cleveland, OH)

• June 25, 2012 (Conference Call)

• June 28, 2012 (Wilmington, DE)

• July 23, 2012 (Conference Call)

• July 26, 2012 (Wilmington, DE)

• September 24, 2012 (Conference Call)

• September 27, 2012 (Wilmington, DE)

• October 18, 2012 (Conference Call)

• October 25, 2012 (Wilmington, DE)

• November 26, 2012 (Conference Call)

• November 29, 2012 (Wilmington, DE)

PJM Markets and Reliability Committee

• February 23, 2012 (Wilmington, DE)

• March 29, 2012 (Wilmington, DE)

• April 26, 2012 (Wilmington, DE)

• June 28, 2012 (Wilmington, DE)

• July 26, 2012 (Wilmington, DE)

• September 27, 2012 (Wilmington, DE)

• October 25, 2012 (Wilmington, DE)

• November 29, 2012 (Wilmington, DE)

PJM Market Implementation Committee

• February 17, 2012 (Wilmington, DE)

• March 14, 2012 (Wilmington, DE)

• April 11, 2012 (Wilmington, DE)

• May 9, 2012 (To Be Determined)

• June 13, 2012 (To Be Determined)

• July 11, 2012 (To Be Determined)

• August 8, 2012 (To Be Determined)

• September 12, 2012 (To Be Determined)

• October 10, 2012 (To Be Determined)

• November 7, 2012 (To Be Determined)

• December 12, 2012 (To Be Determined)

The discussions at each of the meetings described above may address matters at issue in pending proceedings before the Commission, including the following currently pending proceedings:

Docket No. EL05-121, PJM Interconnection, L.L.C.

Docket Nos. ER06-456, ER06-880, ER06-954, ER06-1271, EL07-57, ER07-424, ER07-1186, ER08-229, ER08-1065, ER09-497, and ER10-268, PJM Interconnection, L.L.C.

Docket No. ER07-1186, PJM Interconnection, L.L.C.

Docket No. EL08-47, PJM Interconnection, L.L.C.

Docket No. ER08-386, Potomac-Appalachian Transmission Highline, L.L.C.

Docket No. ER08-686, Pepco Holdings, Inc.

Docket No. ER09-1063, PJM Interconnection, L.L.C.

Docket No. ER09-1148, PPL Electric Utilities Corporation

Docket No. ER09-1256, Potomac-Appalachian Transmission Highline, L.L.C.

Docket No. EL10-52, Central Transmission, L.L.C. v. PJM Interconnection, L.L.C.

Docket Nos. ER10-253 and EL10-14, Primary Power, L.L.C.

Docket No. ER11-2183, American Electric Power Service Corporation

Docket Nos. ER11-2814 and ER11-2815, PJM Interconnection, L.L.C. and American Transmission Systems, Inc.

Docket Nos. ER11-2875 and EL11-20, PJM Interconnection, L.L.C.

Docket Nos. ER11-3972, PJM Interconnection, L.L.C.

Docket No. ER11-4106, PJM Interconnection, L.L.C.

Docket No. ER11-4402, PJM Interconnection, L.L.C.

Docket No. ER11-4628, PJM Interconnection, L.L.C.

Docket No. EL12-8, DC Energy, L.L.C. and DC Energy Mid-Atlantic, L.L.C. vs. PJM Interconnection, L.L.C.

Docket No. EL12-10, PJM Interconnection, L.L.C.

Docket No. EL12-19-000, FirstEnergy Solutions Corporation and Allegheny Energy Supply Company, LLC, v. PJM Interconnection, L.L.C.

Docket No. ER12-91, PJM Interconnection, L.L.C.

Docket No. ER12-92, PJM Interconnection, L.L.C.

Docket No. ER12-306, Baltimore Gas and Electric Company

Docket No. ER12-445, PJM Interconnection, L.L.C.

Docket No. ER12-469, PJM Interconnection, L.L.C.

Docket No. ER12-513, PJM Interconnection, L.L.C.

Docket No. ER12-525, PJM Interconnection, L.L.C.

Docket No. ER12-636, PJM Interconnection, L.L.C.

Docket No. ER12-718, New York Independent System Operator, Inc.

Docket No. ER12-759, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: February 15, 2012.
Kimberly D. Bose,
Secretary.

[FR Doc. 2012-4074 Filed 2-21-12; 8:45 am]

BILLING CODE 6717-01-P